DEPARTMENT OF COMMERCE

Technology Administration

[Docket No. 000 721216-0228-02]

Announcement of the Establishment of a Joint Public-Sector Private-Sector Technology Demonstration Center; Criteria To Be Used in Selecting Exhibits To Be Demonstrated, and To Clarify Other Matters

AGENCY: Technology Administration, Commerce.

ACTION: Notice of establishment of a Technology Demonstration Center, announcement of criteria for selection of exhibits, and clarification of other issues.

SUMMARY: The United States Department of Commerce Technology Administration is clarifying a recently published (August 4, 2000, Vol. 65, No. 151, p. 47968) Federal Register notice announcing the establishment of a joint public-sector private-sector Technology Demonstration Center. The purpose of the Center will be to demonstrate state-of-the-art and cutting edge technological advances in a variety of technologies and to encourage future development. Demonstrations will consist of presentations by the United States Department of Commerce Technology Administration, other Federal, state and local agencies, and private sector parties. This is not a grant program.

DATES: The Technology Demonstration Center will open on September 14, 2000 on a permanent basis, and proposed demonstrations will be accepted for review at any time.

ADDRESSES: Parties interested in participating in the Technology Demonstration Center should send inquiries to, Technology Demonstration, United States Department of Commerce, Technology Administration, Attn: Ms. Jacki Pickett, Washington DC, 20232.

FOR FURTHER INFORMATION CONTACT: Ms. Jacki Pickett, Technology Administration, (202) 482-1039.

SUPPLEMENTARY INFORMATION: Under the authorities granted by Title 15 United States Code sections 3704, the Under Secretary for Technology is establishing a Technology Demonstration Center in cooperation with the public and private sectors. On August 4, 2000, TA issued a Federal Register notice which indicated that TA would enter into Cooperative Research and Development Agreements with private sector participants. TA now issues this notice to clarify that the agency might also make use of other legal instruments, in its discretion. Further, TA wishes to publish the criteria it will use in selecting technological advances to be displayed in the Technology Demonstration Center.

The purpose of the Center will be to demonstrate emerging new technologies that demonstrate and/or go beyond the state-of-the-art and to encourage debate on future technological advances in a variety of technologies. Demonstrations will be solicited from the Technology Administration's National Institute of Standards and Technology (NIST) labs, other Federal and state research centers, and private-sector parties. The Center will be for demonstration purposes only and will comply with applicable Federal regulations and Departmental requirements. The Center will not be used for sales of merchandise, solicitations, orders, or the advertisement of specific products or services. The Center will be permanently located at the United States Department of Commerce's Herbert C. Hoover Building, in Washington DC.

General Q&As

What Is the Technology Demonstration Center?

The Center is a joint public/private collaboration in downtown Washington, DC. Creating a convenient venue for senior government officials and policy makers to learn about emerging technologies and assess its meaning for our future the Center will promote a better understanding of technology's impact on America by “Bringing Technology Downtown.”

What Are the Center's Objectives?

Provide a permanent venue at which private- and public-sector innovators can demonstrate technological advances in a variety of technologies at the pre-commercial phase, and encourage future technological development;

Provide a neutral venue for open discussion of the impact of technology on policy and policy making;

Create an educational resource accessible to a broad range of senior government officials and policy makers.

What Areas of Technology Will Be Considered?

Demonstrations in areas including, but not limited to, nanotechnology, biotechnology, computing, and electronic commerce will be considered.

What Is Not Included?

The Center will be used for demonstrations. The Center will not be used for sales of merchandise, solicitations, orders, or the advertisement of specific products or services.

Who May Apply?

Innovators from all parts of the American R&D enterprise are eligible, both private- and public-sector.

What Is the Center Looking For?

Demonstrations of innovative technologies in the pre-commercial development phase and innovative uses of commercial technologies that have the capability to transform the competitive landscape, provide substantial improvement in quality of life or the environment, or require substantial change in policy.

What Is the Level of Technical Expertise in the Target Audience?

The target audience will include senior federal science and engineering staff who have substantial technological expertise, and policy makers.

Eligibility Requirements and Selection Criteria

To be selected as an exhibitor, each applicant must meet the following eligibility requirements and selection criteria:

A. Eligibility Requirements

1. Participation in the Center is open to private sector parties, as well as to Federal, State and local government agencies, subject to successful completion of a thorough vetting process for each candidate (to review possible conflict of interest and other relevant issues).

2. An important purpose of the Center is to provide a permanent venue for the demonstration of state-of-the-art (and beyond) technology from the high tech community nationwide. Such technologies should be expected to make a meaningful or significant impact on commerce, the environment, and the U.S. economy and standard of living, as well as contribute to U.S. competitiveness and encourage future development.

3. Any technology to be demonstrated at the Center must comply with applicable Federal laws and regulations and Department of Commerce requirements.

4. The Center will not be used for sales of merchandise, solicitations, orders or for the advertisement of specific products or services.

B. Selection Process

1. The applicant submits detailed information to address the Center's selection criteria of technological innovation and potential market impact.

2. If the information submitted is determined to have high merit, Technology Administration may seek additional information—either in written or oral format—or request an in-person review of the technology.

3. If TA determines, based on all of the information received, that the technology has high merit, final selection processing will proceed.

C. Selection Criteria

In assessing prospective technological advances for possible demonstration, the following criteria will be used:

Technical Innovation (40%). TA will assess the proposed achievement or technical innovation from the following perspectives.

What is the achievement or innovation and what makes it extraordinary?

How does the proposed demonstration constitute an advancement beyond the current state-of-the-art in a particular technology or field?

What is the competitive landscape today (i.e., what is the current state-of-the-art in this technical area) and how does this innovation surpass current and developing technologies?

Does the proposed demonstration show promise for encouraging future development in this and other fields?

Market Impact (40%). In this section, TA will assess how the proposed achievement or innovation might generate national economic benefit from the following perspectives.

What is the potential commercial use of this achievement or innovation?

Who are the potential users and how will this achievement or innovation affect American competitiveness?

What might be its economic impact—job creation, new markets, new product development, increased imports, reduced reliance on non-renewable resources, affect on quality of life and the environment? How will the existence of this technology affect other markets? Will it require policy change?

How will the Exhibitor bring this technology into the market place?

To what extent can lessons learned in the development of this achievement or innovation serve as role models?

Portfolio Balance (20%). TA will assess how the Exhibitor's proposed demonstration might stimulate future developments in its or other fields, and broader policy debates.

How will the proposed demonstration contribute to the impact of the suite of demonstrations?

Is there a grouping of exhibits that might frame an emerging policy debate?

Are all technologies and all sectors of the American R&D enterprise being fairly represented?

This program involves a collection of information subject to the Paperwork Reduction Act (PRA). TA is currently seeking approval for this collection from the Office of Management and Budget. Notwithstanding any other provision of law, no person is required to respond to nor shall a person be subject to a penalty for failure to comply with a collection of information subject to the requirements of the PRA unless that collection of information displays a current valid OMB control number.

The information collected will be used by TA to assess applicants against the above stated criteria. It is estimated that the annual public burden for the collection will average 1 hour per response, with approximately 100 responses submitted each year. This estimate includes the time for reviewing the instructions, searching existing data sources, gathering and maintaining the data needed, and completing and reviewing the collection of information. Send comments regarding this burden estimate or any aspect of this collection of information, including suggestions for reducing this burden, to the Office of Information and Regulatory Affairs, Office of Management and Budget, Washington, DC, 20503 (Attention: TA Desk Officer).

Dr. Cheryl L. Shavers,
Undersecretary of Commerce for Technology.

[FR Doc. 00-27301 Filed 10-23-00; 8:45 am]

BILLING CODE 3510-13-P